DEPARTMENT OF COMMERCE

National Oceanic and Atmospheric Administration

Proposed Information Collection; Comment Request; Alaska Rockfish Program: Permits and Reports

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 24, 2017.

ADDRESSES: Direct all written comments to Jennifer Jessup, Departmental Paperwork Clearance Officer, Department of Commerce, Room 6616, 14th and Constitution Avenue NW., Washington, DC 20230 (or via the Internet at pracomments@doc.gov).

An electronic copy of the most recent supporting statement for this information collection is available from http://www.cio.noaa.gov/itmanagement/pdfs/0545ext15.pdf.

FOR FURTHER INFORMATION CONTACT: Requests for additional information or copies of the information collection instrument and instructions should be directed to Sally Bibb, (907) 586-7228 or sally.bibb@noaa.gov.

SUPPLEMENTARY INFORMATION:

I. Abstract

This request is an extension of a currently approved information collection.

The Central Gulf of Alaska Rockfish Program (RP) was designed to enhance resource conservation and improve economic efficiency in the rockfish fisheries conducted in the Central Gulf of Alaska by establishing cooperatives that receive exclusive harvest privileges. Through the RP, National Marine Fisheries Service (NMFS) (1) assigns rockfish quota share (QS) and cooperative quota to participants for rockfish primary and secondary species; (2) allows a participant holding a License Limitation Program (LLP) license with rockfish QS to form a rockfish cooperative with other persons; (3) allows holders of catcher/processor LLP licenses to opt-out of rockfish cooperatives each year; (4) includes an entry level longline fishery; (5) establishes sideboard limits, which are limits designed to prevent participants in the RP from increasing their historical effort in other Gulf of Alaska groundfish fisheries; and (6) includes monitoring and enforcement provisions. The Rockfish Program is authorized for until December 31, 2021.

II. Method of Collection

Forms are available on the NMFS Alaska Region Web site at https://alaskafisheries.noaa.gov/fisheries/central-goa-rockfish-program. The Application for Rockfish Cooperative Fishing Quota (CQ) must be submitted by mail, hand delivery, or fax. The Application for Inter-Cooperative Transfer of Rockfish CQ, the Rockfish Vessel Check-in/Checkout Report, and the Termination of Fishing Declaration must be submitted to NMFS online through eFISH on the NMFS Alaska Region Web site at https://alaskafisheries.noaa.gov/webapps/efish/login.

III. Data

OMB Control Number: 0648-0545.

Form Number(s): None.

Type of Review: Regular submission (extension of a current information collection).

Affected Public: Business or other for-profit organizations; Individuals or households.

Estimated Number of Respondents: 9.

Estimated Time per Response: 2 hours for Application for Rockfish Cooperative Fishing Quota (CQ); 10 minutes for Application for Inter-Cooperative Transfer of Rockfish CQ; and 10 minutes for Rockfish Vessel Check-in/Checkout Report with Termination of Fishing Declaration.

Estimated Total Annual Burden Hours and Equivalent Labor Costs to the Public: 34 hours and $1,300 per year ($37 per hour).

Estimated Total Annual Cost to Public: $47 in recordkeeping/reporting costs for photocopying, faxing, and postage for the annual Application for Rockfish CQ.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 20, 2017.
Sarah Brabson,
NOAA PRA Clearance Officer.

[FR Doc. 2017-20397 Filed 9-22-17; 8:45 am]

BILLING CODE 3510-22-P